DEPARTMENT OF ENERGY

Federal Energy Regulatory Commission

[Docket No. AD08-1-004]

Review of Cost Submittals by Other Federal Agencies for Administering Part I of the Federal Power Act; Notice Requesting Questions and Comments on Fiscal Year 2007 Other Federal Agency Cost Submissions

March 28, 2008.

In its Order On Rehearing Consolidating Administrative Annual Charges Bill Appeals And Modifying Annual Charges Billing Procedures (109 FERC 61,040), the Commission set forth an annual deadline for Other Federal Agencies (OFAs) to submit their costs related to Administering Part I of the Federal Power Act. The Commission required the OFAs to submit their costs by December 31st of each fiscal year (FY) using the OFA Cost Submission Form. The order also announced that a technical conference would be held for the purpose of reviewing the submitted cost forms and detailed supporting documentation.

On March 27, 2008, the Commission held a technical conference to review the FY 2007 OFA cost submissions, which was attended by OFAs and licensees. As of the date of this notice, the Commission has not received any further information that would change the analysis or figures discussed during the Technical Conference.

Within three weeks of the date of this notice, interested parties may file their specific questions and comments on the FY 2007 OFA cost submissions with the Commission under Docket No. AD08-1-004. Once filed, the Commission will forward the questions and comments to the OFAs for response.

Anyone with questions pertaining to the technical conference or this notice should contact Fannie Kingsberry at (202) 502-6108 (via e-mail at fannie.kingsberry@ferc.gov), or Norman Richardson at (202) 502-6219 (via e-mail at norman.richardson@ferc.gov).

Kimberly D. Bose,
Secretary.

[FR Doc. E8-7106 Filed 4-4-08; 8:45 am]

BILLING CODE 6717-01-P